DEPARTMENT OF TRANSPORTATION

Federal Highway Administration

Buy America Waiver Notification

AGENCY: Federal Highway Administration (FHWA), DOT.

ACTION: Notice.

SUMMARY: This notice provides information regarding the FHWA's finding that a Buy America waiver is appropriate for the purchase of foreign Mobile Harbor Cranes in the Federal-aid/American Recovery and Reinvestment Act of 2009 project for the Toledo Port Authority General Cargo Facility.

DATES: The effective date of the waiver is October 6, 2009.

FOR FURTHER INFORMATION CONTACT: For questions about this notice, please contact Mr. Gerald Yakowenko, FHWA Office of Program Administration, (202) 366-1562, or via e-mail at gerald.yakowenko@dot.gov. For legal questions, please contact Mr. Michael Harkins, FHWA Office of the Chief Counsel, (202) 366-4928, or via e-mail at michael.harkins@dot.gov. Office hours for the FHWA are from 7:45 a.m. to 4:15 p.m., e.t., Monday through Friday, except Federal holidays.

SUPPLEMENTARY INFORMATION:

Electronic Access

An electronic copy of this document may be downloaded from the Federal Register's home page at: http://www.archives.gov and the Government Printing Office's database at: http://www.access.gpo.gov/nara.

Background

The FHWA's Buy America policy in 23 CFR 635.410 requires a domestic manufacturing process for any steel or iron products (including protective coatings) that are permanently incorporated in a Federal-aid construction project. The regulation also provides for a waiver of the Buy America requirements when the application of such requirements would be inconsistent with the public interest or when satisfactory quality domestic steel and iron products are not sufficiently available. This notice provides information regarding the FHWA's finding that a Buy America waiver is appropriate for the acquisition of Mobile Harbor Cranes at the General Cargo Facility in Ohio. While funded by funds made available to the FHWA and subject to the Buy America requirements under 23 U.S.C. 313 and 23 CFR 635.410, the project is being administered by the Maritime Administration. The FHWA has coordinated this Buy America waiver for administrative convenience.

In accordance with the Division I, section 126 of the “Omnibus Appropriations Act, 2009” (Pub. L. 111-8), the FHWA published a notice of intent to issue a waiver on the Mobile Harbor Cranes (http://www.fhwa.dot.gov/construction/contracts/waivers.cfm?id=38) on August 25, 2009. The FHWA received no comments in response to this notice which suggested that the Mobile Harbor Cranes may not be available domestically. During the 15-day comment period, the FHWA conducted additional nationwide review to locate potential domestic manufacturers for the Mobile Harbor Cranes. Based on all the information available to the agency, the FHWA concludes that there are no domestic manufacturers for the Mobile Harbor Cranes. Thus, the FHWA concludes that a Buy America waiver is appropriate as provided by 23 CFR 635.410(c)(1).

In accordance with the provisions of section 117 of the SAFETEA-LU Technical Corrections Act of 2008 (Pub. L. 110-244, 122 Stat. 1572), the FHWA is providing this notice as its finding that a waiver of Buy America requirements is appropriate. The FHWA invites public comment on this finding for an additional 15 days following the effective date of the finding. Comments may be submitted to the FHWA's Web site via the link provided to the Ohio waiver page noted above.

Authority: 23 U.S.C. 313; Public Law 110-161, 23 CFR 635.410.

Issued on: September 23, 2009.
King Gee,
Associate Administrator for Infrastructure.

[FR Doc. E9-23662 Filed 10-5-09; 8:45 am]

BILLING CODE 4910-22-P